DEPARTMENT OF AGRICULTURE

Animal and Plant Health Inspection Service

[Docket No. APHIS-2006-0003]

Horse Protection; Public Meetings in California, Kentucky, Tennessee, and Texas

AGENCY: Animal and Plant Health Inspection Service, USDA.

ACTION: Notice of public meetings.

SUMMARY: We are advising the public that the Animal and Plant Health Inspection Service's Animal Care program will host four additional meetings to present current information on the enforcement of the Horse Protection Act (HPA) and provide a forum for horse industry members and other interested persons to comment on the Horse Protection Program, development of the HPA Operating Plan for 2007 and beyond, and other Horse Protection matters. This notice provides the meetings' agendas, locations, and dates.

DATES: The meetings will be held in Dallas, TX, on April 19, 2006, at 1 p.m.; in Somerset, KY, on May 17, 2006, at 1 p.m.; in Pomona, CA, on June 12, 2006, at 2:30 p.m., and in Chattanooga, TN, on September 11, 2006, at 1 p.m. Registration for each meeting will start 30 minutes before the meeting.

ADDRESSES: The meetings will be held at the following locations:

Dallas, TX: Sterling Hotel Dallas, 1055 Regal Row, Dallas, TX.

Somerset, KY: Center for Rural Development, 2292 South Highway 27, Suite 300, Somerset, KY.

Pomona, CA: Kellogg West Conference Center, 3801 West Temple Avenue, Pomona, CA.

Chattanooga, TN: Miller & Martin PLLC, Volunteer Building, 832 Georgia Avenue, Suite 1000, Chattanooga, TN.

FOR FURTHER INFORMATION CONTACT: Mr. Darby G. Holladay, APHIS Legislative and Public Affairs, 4700 River Road Unit 51, Riverdale, MD 20737; (301) 734-3265.

SUPPLEMENTARY INFORMATION: The Animal and Plant Health Inspection Service (APHIS), Animal Care, is announcing four additional meetings to discuss the enforcement of the Horse Protection Act (HPA). Two prior meetings for this purpose have been held in Shelbyville, KY, on February 8, 2006, and in Springfield, MO, on March 13, 2006. Notice of the earlier meetings was published in the Federal Register on January 18, 2006 (71 FR 2902), and on March 7, 2006 (71 FR 11373). These meetings are designed to provide a forum for information dissemination on current initiatives by Animal Care. Further, these meetings provide the opportunity for industry members and other interested parties to provide suggestions for the HPA Operating Plan for 2007 and beyond and comments on other Horse Protection Program matters during the listening session period on the agenda. Each attendee who wishes to comment should indicate at registration his or her intention to address the Deputy Administrator during the listening session and will be allotted a set amount of time.

The meetings will, with the exception of possible minor modifications, follow the agenda below. Registration for each meeting will start 30 minutes prior to the meeting.

Welcome and Overview: 15 minutes.

Horse Protection Program Update: 1 hour, 45 minutes.

Listening Session: 1 hour, 45 minutes.

Remarks and Closing: 15 minutes.

Meeting notices, copies of the Horse Protection Act, HPA regulations, the HPA Operating Plan for 2004-2006, and other relevant documents are available on the Animal Care Web site at http://www.aphis.usda.gov/ac/hpainfo.html.

Please note that these meetings are being held to provide for the exchange of information on the enforcement of the Horse Protection Act and are not an opportunity to submit formal comments on proposed rules or other regulatory initiatives. Written comments will be accepted and should be mailed to: USDA, APHIS, Animal Care, 4700 River Road Unit 84, Riverdale, MD 20737.

Done in Washington, DC, this 14th day of April 2006 .
Kevin Shea,
Acting Administrator, Animal and Plant Health Inspection Service.

[FR Doc. E6-5943 Filed 4-19-06; 8:45 am]

BILLING CODE 3410-34-P